ENVIRONMENTAL PROTECTION AGENCY

[EPA-HQ-OAR-2021-0119; FRL—9974-01-OMS]

Information Collection Request Submitted to OMB for Review and Approval; Comment Request; NESHAP for Taconite Iron Ore Processing (Renewal)

AGENCY: Environmental Protection Agency (EPA).

ACTION: Notice.

SUMMARY: The Environmental Protection Agency (EPA) has submitted an information collection request (ICR), NESHAP for Taconite Iron Ore Processing (EPA ICR Number 2050.10, OMB Control Number 2060-0538), to the Office of Management and Budget (OMB) for review and approval in accordance with the Paperwork Reduction Act. This is a proposed extension of the ICR, which is currently approved through June 30, 2022. Public comments were previously requested, via the Federal Register, on April 13, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before July 28, 2022.

ADDRESSES: Submit your comments, referencing Docket ID Number EPA-HQ-OAR-2021-0119, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Taconite Iron Ore Processing (40 CFR part 63, subpart RRRRR), were proposed on December 18, 2002; promulgated on October 30, 2003; and most-recently amended on both July 28, 2020 and November 19, 2020. These regulations apply to existing facilities and new taconite iron ore processing facilities that emit or have the potential to emit a single hazardous air pollutant (HAP) at a rate of 10 tons or more per year or any combination of HAPs at a rate of 25 tons or more per year. The affected sources are ore crushing and handling operations, ore dryers, indurating furnaces, finished pellet handling emission units, and fugitive dust emissions. New facilities include those that commenced construction or reconstruction after the date of proposal. This information is being collected to assure compliance with 40 CFR part 63, subpart RRRRR. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: 5900-576.

Respondents/affected entities: Taconite iron ore processing facilities.

Respondent's obligation to respond: Mandatory (40 CFR part 63, subpart RRRRR).

Estimated number of respondents: 8 (total).

Frequency of response: Initially, occasionally, and semiannually.

Total estimated burden: 1,230 hours (per year). Burden is defined at 5 CFR 1320.3(b).

Total estimated cost: $584,000 (per year), which includes $0 in annualized capital/startup and/or operation & maintenance costs.

Changes in the Estimates: There is an adjustment increase in the total estimated burden as currently identified in the OMB Inventory of Approved Burdens. This increase is not due to any program changes. The change in the burden and cost estimates is due to a correction of the number of respondents per year performing Method 5 performance tests to be consistent with the number of respondents estimated to provide notifications of performance tests and report performance test results. This ICR adjusts the number of respondents conducting performance tests in each year from 2.7 per year to 8 per year, which increases the annual burden by approximately 300 hours. There is no change in the capital/startup vs. operation and maintenance (O&M) costs as calculated in section 6(b)(iii) compared with the costs in the previous ICR.

Courtney Kerwin,
Director, Regulatory Support Division.

[FR Doc. 2022-13757 Filed 6-27-22; 8:45 am]

BILLING CODE 6560-50-P